FEDERAL COMMUNICATIONS COMMISSION

47 CFR Part 73

[MB Docket No. 11-54; RM-11624; DA 17-510]

Television Broadcasting Services; Augusta, Georgia

AGENCY: Federal Communications Commission.

ACTION: Proposed rule; withdrawal.

SUMMARY: The Commission has before it a petition for rulemaking filed by Southern Media Holdings, Inc. (SMH), the former licensee of WFXG, Augusta, Georgia, requesting the substitution of channel 51 for channel 31 at Augusta. WFXG License Subsidiary, LLC (Licensee) is now the licensee of WFXG. Station WFXG was allotted channel 51 as its post-transition DTV channel and operated a licensed facility on that channel. In 2008, SMH filed a petition for rulemaking requesting that channel 31 be substituted for channel 51, and the Commission granted that request. SMH subsequently requested that the Commission change its channel back to channel 51 and we issued a Notice of Proposed Rulemaking, which was contested. On April 28, 2017, Licensee filed a letter withdrawing its pending request to substitute channel 51 for channel 31, explaining that it had licensed the channel 31 facility and that WFXG was reassigned to channel 36 in connection with the post-incentive auction repacking of the broadcast television spectrum.

DATES: The proposed rule published on April 4, 2011 (76 FR 18497) is withdrawn as of June 12, 2017.

FOR FURTHER INFORMATION CONTACT: Joyce Bernstein, Joyce.Bernstein@fcc.gov, Media Bureau, (202) 418-1647.

SUPPLEMENTARY INFORMATION: This is a synopsis of the Commission's Order, MB Docket No. 11-54, adopted May 25, 20017, and released May 25, 2017. The full text of this document is available for public inspection and copying during normal business hours in the FCC's Reference Information Center at Portals II, CY-A257, 445 12th Street SW., Washington, DC, 20554. This document will also be available via ECFS (http://fjallfoss.fcc.gov/ecfs/). To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4). Provisions of the Regulatory Flexibility Act of 1980, see 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Barbara A. Kreisman,
Chief, Video Division, Media Bureau.

[FR Doc. 2017-11947 Filed 6-9-17; 8:45 am]

BILLING CODE 6712-01-P